DEPARTMENT OF STATE

[Public Notice 4781]

Secretary of State's Advisory Committee on Leadership and Management Notice of Meeting

The Department of State announces the meeting of the Secretary of State's Advisory Committee on Leadership and Management on Wednesday, September 8 in Room 1107 of the U.S. Department of State at 2201 C Street, NW., Washington, DC. The meeting will take place from 1:30 p.m. to 3:30 p.m.

This will be the inaugural meeting of the Committee. Deputy Secretary of State Richard Armitage will chair the meeting. Secretary Powell invited a bipartisan group of prominent Americans to be members of the Committee earlier this year. With their participation and advice, the Department seeks to enhance the ability to carry out U.S. foreign policy today and into the future.

Members of the press and general public may attend the meeting, though attendance will be limited to the seating available. Access to the building is controlled, and photographic identification and individual building passes are required for all attendees.

To attend the meeting, please contact Carlene Roy (royc@state.gov) or Lori Porter (porterl@state.gov) in the Office of Management Policy at (202) 647-0093 and provide date of birth and Social Security number.

Dated: August 23, 2004.
Marguerite Coffey,
Office of Management Policy, Department of State.

[FR Doc. 04-19749 Filed 8-26-04; 8:45 am]

BILLING CODE 4710-35-P